DEPARTMENT OF JUSTICE

Notice of Lodging of Consent Decree Under the Clean Air Act

Under 28 CFR 50.7, notice is hereby given that on October 15, 2003, a proposed consent decree in United States v. Silgan Containers Corporation, Civ. S-03-2166 LKK KJM, was lodged with the United States District Court for the Eastern District of California.

In this action, the United States sought injunctive relief and civil penalties under section 113(b) of the Clean Air Act (“CAA”) against Silgan Containers Corporation for violations of permitting and new source review requirements of the CAA and the federally enforceable State Implementation Plan for California at Silgan's can manufacturing facilities located in Stockton, Modesto, Kingsburg, and Riverbank, California. The consent decree requires Silgan to: (1) Install air pollution control equipment and modify processes at its facilities, (2) modify its permits to reduce allowable emissions from its facilities, and (3) pay a civil penalty of $659,900.

The Department of Justice will receive for a period of thirty (30) days from the date of this publication comments relating to the consent decree. Comments should be addressed to the Assistant Attorney General, Environment and Natural Resources Division, P.O. Box 7611, U.S. Department of Justice, Washington, DC 20044-7611, and should refer to United States v. Silgan Containers Corporation, D.J. Ref. #90-5-2-1-06125.

The consent decree may be examined at the Office of the United States Attorney, 501 I Street, Suite 10-100, Sacramento, California, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per pay reproduction cost) payable to the U.S. Treasury.

Ellen M. Mahan,
Assistant Chief, Environmental Enforcement Section, Environment and Natural Resources Division.

[FR Doc. 03-27257 Filed 10-28-03; 8:45 am]

BILLING CODE 4410-15-M